DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 53799, dated September 8, 2015) is amended to reflect the reorganization to establish the Office of Financial Resources within the Office of the Chief Operating Officer, Centers for Disease Control and Prevention.

Section C-B, Organization and Functions, is hereby amended as follows:

Delete in its entirety the mission and function statements for the Office of the Chief Operating Officer (CAJ) and insert the following:

Office of the Chief Operating Officer (CAJ). (1) Provides leadership, direction, support, and assistance to CDC's programs and activities to enhance CDC's strategic position in public health; ensure responsible stewardship; maintain core values; optimize operational effectiveness of business services; and institutionalize accountability for achieving management initiatives; (2) directs the conduct of operational activities including, among others, facilities and real property planning and management; grants, procurement and materiel management; budget formulation/execution and finance/accounting; human resources management; information technology and systems planning and support; internal security and emergency preparedness; and management analysis and services; (3) manages the planning, evaluation, and implementation of continuous improvement and reengineering initiatives and adoption of innovations and technologies in these areas and ensures that they are undertaken in a comprehensive and integrated manner; (4) maintains liaison with officials of the Department of Health and Human Services (HHS) responsible for the direction and conduct of the HHS program support and management services functions; (5) provides assistance to HHS officials and to CDC's Centers/Institute/Offices (CIO) to assure that the human resources of CDC are sufficient in numbers, training, and diversity to effectively conduct the public health mission of CDC; (6) provides guidance and ensures compliance with the budget priorities established by the Office of the Director, CDC; and (7) plans and coordinates the implementation of various federal administrative, statutory, regulatory, and policy requirements.

Office of the Director (CAJ1). (1) Manages and directs the activities and functions of the Office of the Chief Operating Officer; (2) provides guidance and support in the conduct of agency-wide business services and management activities performed for or by CIOs; (3) participates in the development of CDC's priority areas, goals and objectives; (4) advises and assists the CDC Director, and other key officials on all aspects of business service activities and functions; (5) oversees operation of the Working Capital Fund (6) oversees governance of the Agency's labor management activities; (7) evaluates and conducts agency-wide enterprise risk monitoring and management; and (8) coordinates responses to Office of the Inspector General hotline and other special investigations.

Delete in its entirety the mission and function statements for the Office of the Chief Financial Officer (CAJE) and insert the following:

Office of Financial Resources (CAJE). (1) Provides leadership, direction, and guidance in matters regarding CDC/ATSDR financial resources, in support of the agency's public health science and programs; (2) plans, develops, and implements policies, procedures, and practices to ensure effective customer service, consultation, and oversight in financial management, grants, and acquisition processes; (3) engages CDC/ATSDR Centers/Institute/Offices (CIOs), as well as other key stakeholders to align agency-wide financial management, grants, and acquisition processes with applicable laws, regulations, and policies, and with CDC/ATSDR public health goals, and (4) provides all support necessary to help ensure that appropriated funds are utilized in compliance with Congressional mandate, for the sole purpose of preventing and controlling infectious diseases domestically and globally.

Office of the Director (CAJE1). (1) Provides overall leadership, direction, guidance, oversight, and coordination in the areas of finance and accounting services, acquisition services, budget services, and grants services; (2) provides overall leadership, direction, guidance, oversight, and coordination in the areas of organizational management, project management, policy, performance, communication, financial information systems, budget formulation, and appropriation processes; (3) performs the functions of Chief Financial Officer (CFO) for CDC/ATSDR; (4) provides expertise in interpreting applicable laws, regulations, policies and guidance, and provides leadership, direction, and coordination in resolving issues; (5) advises and assists the CDC Director, the Chief Operating Officer, and other officials—both in program and business service offices—on all matters regarding financial resources of the agency; (6) maintains liaison with all applicable federal agencies on compliance activities associated with financial management, grants, and acquisitions functions; (7) plans, develops, and implements programs as appropriate to evaluate policies, procedures, and practices to ensure adherence to financial resource laws, policies, procedures, and regulations; (8) provides leadership, direction, guidance, and coordination on audits and establishes priorities in resolving issues; and (9) develops Annual Quality Assurance Plans.

Office of Management Services (HCAJE13). (1) Provides overall budgetary, employee relations, human capital management, logistics and administrative support; (2) collaborates and maintains liaison with CDC Management Officials to monitor and address priority issues of concern to CDC Leadership; (3) provides direction, strategy, analysis, and operational support in all aspects of human capital management, including workforce and career development and human resources operations (4) manages internal operational budget processes, including planning, execution, and monitoring; (5) manages internal acquisition processes; (6) serves as point of contact on all matters concerning facilities management, property management, records management, equipment, travel, and space utilization and improvements; and (7) serves as coordinator of continuity of operations activities.

Office of Appropriations (CAJE14). (1) Provides leadership, consultation, guidance, and advice on matters of public health and financial policy; (2) leads all CDC/ATSDR Congressional appropriations activities including strategic outreach; (3) develops CDC/ATSDR's annual financial and public health policy request in accordance with Department of Health and Human Services (HHS), Office of Management and Budget (OMB), and Congressional requirements, policies, procedures, and regulations; (4) maintains liaison with the Office of the Secretary (OS), OMB, other government organizations, and Congress on appropriations and financial policy matters; (5) develops materials for, and participates in, public health policy and financial reviews and hearings before HHS, OMB, and Congress; (6) collaborates with other parts of CDC, and outside stakeholders, in the development and implementation of agency-wide financial and public health program plans; and (7) provides guidance and advice on the consolidation of budget and performance information as part of CDC's annual budget request.

Office of Financial Information Systems (CAJE16). (1) Provides management and coordination necessary for access to systems, data, and reporting capability; (2) develops, implements, and manages long-term systems strategy; (3) provides systems analysis, design, programming, implementation, enhancement and documentation of organizational information technology systems; (4) provides technical support and assistance for data error analysis and resolution, coordination of system initiatives, management of information technology resources, and the access and interpretation of financial system data; (5) serves as a liaison to the Unified Financial Management System (UFMS) operations and maintenance and other internal and external groups as needed; (6) provides technical and managerial direction for the development, implementation, and maintenance of grants and contracts systems; (7) manages HHS grants and administrative systems; (8) manages all aspects of systems security and administration; (9) ensures implementation of data standards; (10) performs certification and accreditation of information technology systems; and (11) performs common accounting number (CAN) realignment coordination.

Office of Policy, Performance, and Communications (CAJE17). (1) Provides technical and managerial direction for the development of organizational and CDC-wide policies that are cross-cutting to support CDC's public health science and programs; (2) participates with senior management in program planning, policy determinations, evaluations, and decisions concerning escalation points for grants, acquisitions, and financial management; (3) provides leadership, coordination, and collaboration on issues management and triaging, and ensures the process of ongoing issues identification, management, and resolution; (4) conducts policy analysis, tracking, review and clearance as it relates to grants, acquisitions, and financial management to support CDC's public health science and programs; (5) manages and responds to Congressional inquiries and media requests as it relates to financial resources to support CDC's public health science and programs; (6) serves as the point of contact for the policy analysis, technical review and final clearance of executive correspondence and policy documents that require approval from the CDC Director, CDC Leadership Team, or officials; (7) coordinates and manages annual contract and grant forecasting activities; (8) provides reporting for annual planning meetings, annual reports, data calls, end-of-year coordination, and ad-hoc requests; (9) leads the Office of Financial Resources (OFR) performance management, including the development of strategic plans, performance metrics, dashboards, Quarterly Program Review materials, and the Office the Chief Operating Officer strategic direction materials; (10) leads business processes improvement initiatives; (11) leads OFR customer service improvement initiatives and administers customer service surveys; (12) provides communications support for executive presentations, messages, and meetings; (13) ensures accurate and consistent information dissemination, including Freedom Of Information Act requests and Executive Secretariat controlled correspondence; (14) ensures consistent application of CDC correspondence standards and styles; and (15) provides leadership, technical assistance, and consultation in establishing best practices in internal and external business communication and implements external communication strategies to promote and protect the agency's brand (e.g., employee communications, intranet, internet and other communication platforms). Office of Budget Services (CAJEV). The Office of Budget Services oversees agency-wide budget execution functions, financial data analysis, reporting and planning.

Office of the Director (CAJEV1). (1) Provides overall leadership, supervision, and management of budget staff; (2) provides agency-level budget execution functions, financial data analysis, and reporting; (3) provides budgetary information for business decision-making support surrounding the agency's mission and goals; (4) develops high-level plans to execute agency-level budget; (5) ensures changes and plans are in compliance with decisions and agency direction; (6) reports compliance of laws, regulations, and decisions; (7) provides agency-wide budget planning, analysis, and reporting for agency budget execution and public health goals strategy; (8) provides agency spend plan validation, remediation, and analysis; (9) provides funds control management for the agency-level budget; (10) assists in the review of Congressional bill language to identify and properly account for earmarks and other directed programs; and (11) provides Departmental and OMB reporting; and (12) provides budget execution for Centralized Mandatory Services.

Budget Operations Services Branch (CAJEVJ). (1) Conducts agency-level budget execution functions, financial data analysis, and reporting; (2) assists the Office of Budget in providing budgetary information for business decision-making support surrounding public health; (3) assists in developing plans to execute agency-level budget; (4) ensures changes and plans are in compliance with decisions and agency direction; (5) reports compliance of laws, regulations, and decisions to the Director, Office of Budget; (6) assists in agency-wide budget planning, analysis, and reporting for agency budget execution and public health initiatives; (7) assists CIOs in establishing an agency-level planning budget to forecast annual funding and prepare spend plans for the upcoming fiscal year; (8) provides information to the Director, Office of Budget related to funds control management for the agency's budget; (9) assists in the review of Congressional bill language to identify and properly account for earmarks and other directed programs; (10) assists in fulfilling HHS and OMB reporting requirements; (11) calculates agency-level funding authority during continuing resolution periods, as required; and (12) provides guidance and advice to the CDC CFO and the Director, Office of Budget, on issues related to use of CDC appropriations and other matters concerning budgetary policy, law and regulations.

Infectious Disease Budget Execution Services Branch (CAJEVK). (1) Provides the legal and regulatory expertise and support to execute CDC's budget within the framework of HHS, OMB, and Congressional regulations, and policies of CDC Office of the Director (OD); (2) manages the expectations agreed upon in the Budget Execution Services Service Level Agreement; (3) promotes structured, ongoing partnerships with CIOs; (4) manages and supports programs in all aspects of funds management; (5) provides the leadership and guidance for spend plan creation and administration, in compliance with all federal guidelines and policies, such as the Anti-Deficiency Act; (6) provides the overall analysis and reconciliation of spend plans to advise programs on future spending decisions; (7) assists program officials in developing sub-allocation of CIO, and/or Division ceilings; (8) communicates and shares knowledge with programs and CDC's budget analyst community; and (9) performs cost-benefit analysis to review financial requests and makes recommendations for future-year budget.

Public Health Scientific Services Budget Execution Services Branch (CAJEVL). (1) Provides the legal and regulatory expertise and support to execute CDC's budget within the framework of HHS, OMB, and Congressional regulations, and policies of CDC OD; (2) manages the expectations agreed upon in the Budget Execution Services Service Level Agreement; (3) promotes structured, ongoing partnerships with CIOs; (4) manages and supports programs in all aspects of funds management; (5) provides the leadership and guidance for spend plan creation and administration, in compliance with all federal guidelines and policies, such as the Anti-Deficiency Act; (6) provides the overall analysis and reconciliation of spend plans to advise programs on future spending decisions; (7) assists program officials in developing sub-allocation of CIO, and/or Division ceilings; (8) communicates and shares knowledge with programs and CDC's budget analyst community; and (9) performs cost-benefit analysis to review financial requests and makes recommendations for future-year budget.

Office of the Director, OSTLTS, and Occupational Safety and Health Budget Execution Services Branch (CAJEVM). (1) Provides the legal and regulatory expertise and support to execute CDC's budget within the framework of HHS, OMB, and Congressional regulations, and policies of CDC OD; (2) manages the expectations agreed upon in the Budget Execution Services Service Level Agreement; (3) promotes structured, ongoing partnerships with CIOs; (4) manages and supports programs in all aspects of funds management; (5) provides the leadership and guidance for spend plan creation and administration, in compliance with all federal guidelines and policies, such as the Anti-Deficiency Act; (6) provides the overall analysis and reconciliation of spend plans to advise programs on future spending decisions; (7) assists program officials in developing sub-allocation of CIO, and/or Division ceilings; (8) communicates and shares knowledge with programs and CDC's budget analyst community; and (9) performs cost-benefit analysis to review financial requests and makes recommendations for future-year budget.

Non-Communicable Disease, Injury, and Environmental Health Budget Execution Services Branch (CAJEVN). (1) Provides the legal and regulatory expertise and support to execute CDC's budget within the framework of HHS, OMB, and Congressional regulations, and policies of CDC OD; (2) manages the expectations agreed upon in the Budget Execution Services Service Level Agreement; (3) promotes structured, ongoing partnerships with CIOs; (4) manages and supports programs in all aspects of funds management; (5) provides the leadership and guidance for spend plan creation and administration, in compliance with all federal guidelines and policies, such as the Anti-Deficiency Act; (6) provides the overall analysis and reconciliation of spend plans to advise programs on future spending decisions; (7) assists program officials in developing sub-allocation of CIO, and/or Division ceilings; (8) communicates and shares knowledge with programs and CDC's budget analyst community; and (9) performs cost-benefit analysis to review financial requests and makes recommendations for future-year budget.

Global Health Budget Execution Services Branch (CAJEVP). (1) Provides the legal and regulatory expertise and support to execute CDC's budget within the framework of HHS, OMB, and Congressional regulations, and policies of CDC OD; (2) manages the expectations agreed upon in the Budget Execution Services Service Level Agreement; (3) promotes structured, ongoing partnerships with CIOs; (4) manages and supports programs in all aspects of funds management; (5) provides the leadership and guidance for spend plan creation and administration, in compliance with all federal guidelines and policies, such as the Anti-Deficiency Act; (6) provides the overall analysis and reconciliation of spend plans to advise programs on future spending decisions; (7) assists program officials in developing sub-allocation of CIO, and/or Division ceilings; (8) communicates and shares knowledge with programs and CDC's budget analyst community; and (9) performs cost-benefit analysis to review financial requests and makes recommendations for future-year budget.

Preparedness, Response, and Office of the Chief Operating Officer Budget Execution Services Branch (CAJEVQ). (1) Provides the legal and regulatory expertise and support to execute CDC's budget within the framework of HHS, OMB, and Congressional regulations, and policies of CDC OD; (2) manages the expectations agreed upon in the Budget Execution Services Service Level Agreement; (3) promotes structured, ongoing partnerships with CIOs; (4) manages and supports programs in all aspects of funds management; (5) provides the leadership and guidance for spend plan creation and administration, in compliance with all federal guidelines and policies, such as the Anti-Deficiency Act; (6) provides the overall analysis and reconciliation of spend plans to advise programs on future spending decisions; (7) assists program officials in developing sub-allocation of CIO, and/or Division ceilings; (8) communicates and shares knowledge with programs and CDC's budget analyst community; and (9) performs cost-benefit analysis to review financial requests and makes recommendations for future-year budget.

Office of Acquisition Services (CAJEW). The Office of Acquisition Services provides leadership for operations and policies relating to agency-level acquisition functions.

Office of the Director (CAJEW1). (1) Provides overall leadership, supervision, and management of acquisition staff; (2) ensures policies, processes, and procedures adhere to all rules and regulations and are in alignment with CDC's public health goals; (3) develops and implements organizational strategic planning goals and objectives; (4) provides budgetary, human resource management, and administrative support, and leads the development of contracts policy agendas with federal agencies and organizations; (5) provides cost advisory support to acquisition activities with responsibility for initiating requests for audits and evaluations and providing recommendations to contracting officer; (6) conducts continuing studies and analysis of acquisition activities; (7) provides technical and managerial direction for the development, implementation, and maintenance of acquisition systems; (8) ensures adherence to laws, policies, procedures, regulations, and alignment with CDC's public health goals; (9) provides technical and managerial direction for functions related to interagency agreement management and VISA purchase card management; (10) operates CDC's Small and Disadvantaged Business Program and other socioeconomic programs encompassing acquisition and assistance activities; (11) plans and directs all activities related to contract closeout; and (12) develops and implements organizational and CDC-wide policies and procedures for acquisitions to support CDC's public health science and programs.

Infectious Disease and International Acquisition Branch (CAJEWB). (1) Plans, directs, and conducts acquisition of services, supplies, equipment, research and development, studies, and data collection for CDC through a variety of contractual mechanisms (competitive and non-competitive) to support CDC's national and international public health operations utilizing a wide variety of contract types and pricing arrangements; (2) works closely with CIOs in carrying out their public health missions; (3) provides leadership, direction, procurement options, and approaches in developing specifications/statements of work and contract awards; (4) reviews statements of work to ensure conformity with laws, regulations, policies, and alignment to CDC's public health goals; (5) negotiates and issues contracts; (6) directs and controls acquisition planning activities; (7) provides continuing surveillance of financial and administrative aspects of acquisition-supported activities to ensure compliance with HHS and CDC policies; (8) coordinates and negotiates contract modifications, reviewing and approving contractor billings, resolving audit findings, and performing closeout/termination activities; (9) assures that contractor performance is in accordance with contractual commitments; (10) identifies and mitigates risks associated with contracts and purchase orders; and (11) provides innovative problem-solving methods in coordinating international procurement with a wide variety of domestic and international health organizations including resolving issues with the Department of State.

Chronic Disease, Preparedness, Surveillance, and Environmental Acquisition Branch (CAJEWC). (1) Plans, directs, and conducts acquisition of services, supplies, equipment, research and development, studies, and data collection for CDC through a variety of contractual mechanisms (competitive and non-competitive) to support CDC's national and international public health operations utilizing a wide variety of contract types and pricing arrangements; (2) works closely with CIOs in carrying out their public health missions; (3) provides leadership, direction, procurement options, and approaches in developing specifications/statements of work and contract awards; (4) reviews statements of work to ensure conformity with laws, regulations, policies, and alignment to CDC's public health goals; (5) negotiates and issues contracts; (6) directs and controls acquisition planning activities; (7) provides continuing surveillance of financial and administrative aspects of acquisition-supported activities to ensure compliance with HHS and CDC policies; (8) coordinates and negotiates contract modifications, reviewing and approving contractor billings, resolving audit findings, and performing closeout/termination activities; (9) assures that contractor performance is in accordance with contractual commitments; and (10) identifies and mitigates risks associated with contracts and purchase orders.

CDC-Wide, Business Services, and Office of the Director Acquisition Branch (CAJEWD). (1) Plans, directs, and conducts acquisition of services, supplies, equipment, research and development, studies, and data collection for CDC through a variety of contractual mechanisms (competitive and non-competitive) to support CDC's national and international public health operations utilizing a wide variety of contract types and pricing arrangements; (2) works closely with CIOs in carrying out their public health missions; (3) provides leadership, direction, procurement options, and approaches in developing specifications/statements of work and contract awards; (4) reviews statements of work to ensure conformity with laws, regulations, policies, and alignment to CDC's public health goals; (5) negotiates and issues contracts; (6) directs and controls acquisition planning activities; (7) provides continuing surveillance of financial and administrative aspects of acquisition-supported activities to ensure compliance with HHS and CDC policies; (8) coordinates and negotiates contract modifications, reviewing and approving contractor billings, resolving audit findings, and performing closeout/termination activities; (9) assures that contractor performance is in accordance with contractual commitments; and (10) identifies and mitigates risks associated with contracts and purchase orders.

Occupational Safety and Health, and Simplified Acquisition Branch (CAJEWE). (1) Plans, directs, and conducts acquisition of services, supplies, equipment, research and development, studies, and data collection for CDC through a variety of contractual mechanisms (competitive and non-competitive) to support CDC's national and international public health operations utilizing a wide variety of contract types and pricing arrangements; (2) works closely with CIOs in carrying out their public health missions; (3) provides leadership, direction, procurement options, and approaches in developing specifications/statements of work and contract awards; (4) reviews statements of work to ensure conformity with laws, regulations, policies, and alignment to CDC's public health goals; (5) negotiates and issues contracts; (6) directs and controls acquisition planning activities; (7) provides continuing surveillance of financial and administrative aspects of acquisition-supported activities to ensure compliance with HHS and CDC policies; (8) coordinates and negotiates contract modifications, reviewing and approving contractor billings, resolving audit findings, and performing closeout/termination activities; (9) assures that contractor performance is in accordance with contractual commitments; and (10) identifies and mitigates risks associated with contracts and purchase orders.

Office of Finance and Accounting Services (CAJEU).The Office of Finance and Accounting Services provides financial services and policy for agency-level accounting functions, and oversees financial data analysis, reporting, management and business decision-making in support of the agency's mission and goals.

Office of the Director (CAJEU1). (1) Provides overall leadership, supervision, and management of finance and accounting staff; (2) provides agency-level accounting functions, financial data analysis, and reporting; (3) provides business decision-making support surrounding the agency's mission and goals; (4) provides commercial payment services to CDC customers and payment support to CDC offices; (5) provides debt management services to CDC customers; (6) provides travel, Intra-governmental Payment and Collection (IPAC) System and international payment services and support to CDC customers and travelers; (7) supports agency-wide planning, analysis, and reporting for agency public health goals strategy; and (8) reports on compliance with laws, regulations, and decisions to CDC's CFO, to include status of internal financial controls and annual audit of financial accounts.

Accounting Branch (CAJEUB). (1) Oversees and provides approach to accounting for the agency; (2) manages accounting treatment for CDC on all business systems implementations and upgrades to current business systems; (3) manages all financial audit reviews and conducts risk assessment on internal controls; (4) prepares, analyzes fluctuations, and coordinates explanations for differences on all required financial statements and notes and ensures compliance with federal and department reporting requirements; (5) coordinates accounting policy issues with the HHS Assistant Secretary for Financial Resources, Office of Finance; (6) manages Fund Balance with Treasury, including authority, disbursements (payroll and non-payroll), collections, deposit funds and budget clearing accounts; (7) prepares manual journal vouchers for corrections to the general ledger; (8) performs monthly, quarterly, and year-end close-out process of the general ledger; (9) serves as liaison on capital asset procedures and financial questions/inquiries related to grants; (10) manages financial accounting and reconciliations for all assets for CDC, including real and personal property, equipment, land, leases, leasehold improvements, software, personal property, inventories, and stockpiles; (11) provides training and assistance to CDC project officers and grants management officials on various financial management aspects of grants; (12) manages the process to perform grant processing for commitments, obligations, advances, disbursements, and accruals; (13) manages grants transactions, such as vendor set-up, establishing sub-accounts, CAN set-up within the Payment Management System (PMS), reconciling sync file to PMS, and posting files from PMS to UFMS; and (14) conducts grant reviews and supports program in grant execution.

Commercial Payment Branch (CAJEUD). (1) Manages all activities, policies, quality control, and audit support for accounts payable and disbursement functions for commercial payments; (2) serves as the CDC subject matter expert on all financial matters dealing with commercial payments; (3) ensures all commercial payments are made in accordance with applicable Federal laws and standards, such as appropriations law; (4) serves as liaison with the Department of Treasury, CIOs, as well as outside customers, to provide financial information and reconcile commercial payment issues; (5) provides training and advice on commercial payment and disbursement issues; (6) manages transactions related to commercial accounts payable and disbursements; (7) completes all reconciliations of sub-legers to general ledger related to commercial payments; (8) compiles and submits a variety of cash management and commercial reports required by Treasury and various outside agencies; (9) responds to commercial inquiries for invoices and certifies payments; (10) performs quality control and quality assurance reviews and participates in internal reviews; and (11) records undelivered order adjustments or obligations as needed.

Debt Management Branch (CAJEUE). (1) Manages interagency agreements and accounts receivable service lines under CDC/ATSDR's Working Capital Fund; (2) tracks, processes, and records all actions related to a debt; (3) oversees invoicing, billing, collections, reconciliations and reporting for the agency; (4) serves as the central point of contact for resolving the agency's debt management issues; (5) ensures all persons have been given due process, or notification of the debt or an opportunity to repay the debt, generally within 30 days; (6) develops strategy and analysis for reimbursable agreements in accordance with the appropriate CIO and/or Division; (7) manages all aspects of accounts receivable transactions in UFMS, and prepares invoices, and processes billing; (8) collaborates with programs and senior leadership to resolve posting errors, such as the resolution for over-obligated and unsigned agreements, indirect cost calculations, and uncollectible debt; (9) analyzes intra-governmental and intergovernmental eliminations process for compliance with financial statements; (10) prepares and submits agency-level financial reports to HHS/OS; (11) conducts training and offers advice on receivables, Interagency Agreements, and miscellaneous receivables such as vessels, gifts, royalties, cooperative research and development agreements, and user fees; (12) prepares and submits year end certification and verification of the Treasury Report on receivables; and (13) defines Departmental needs for central debt management automated systems to achieve efficiency and effectiveness without compromising program objectives.

Travel, IPAC, and International Payment Branch (CAJEUG). (1) Manages as the subject matter expert all activities, policies, quality control, audit support, and payment transactions for all travel, IPAC, and international activities (to include International expenditures and related reimbursements, IPAC disbursements, change of station, and monthly stipend payments for foreign nationals and visiting fellows along with associated tax filings); (2) ensures all travel, IPAC, and international payments are made in accordance with applicable federal and international laws and standards, such as appropriations law; (3) serves as liaison with the Department of Treasury, CIOs, as well as outside customers, to provide financial information and reconcile travel, IPAC, and international payment issues; (4) compiles and submits a variety of cash management and travel reports required by Treasury and various other outside agencies; (5) provides training and advice on payment, travel and disbursement issues; (6) completes all reconciliations of sub-ledgers to general ledger related to travel, IPAC, and international payments; (7) responds to traveler inquiries for vouchers and certifies payments; (8) performs quality control and quality assurance reviews; (9) provides expertise, guidance, oversight, and interpretation of policies, laws, rules and regulations for all aspects of travel procedures and policies at CDC, including the use of the automated travel system, local travel, domestic and foreign temporary duty travel, and change of station travel for civil service employees, foreign service employees, commissioned officers, CDC fellows, etc.; (10) communicates and implements Departmental travel policies; (11) manages the administrative aspects of travel for the agency, including enforcement of travel card policy, delegations of authority, distribution of cash purchase memos, and approval of first-class memos; (12) serves as liaison with travel provider for travel contract matters; (13) provides travel support to the Emergency Operations Center; and (14) develops CDC conference travel planning and reporting for HHS and Congress.

Office of Grants Services (CAJEY). The Office of Grants Services provides leadership for operations and policies relating to agency-level grants.

Office of the Director (CAJEY1). (1) Provides overall leadership, supervision, and management of the grants staff; (2) ensures policies, processes, and procedures adhere to all rules and regulations and are in alignment with CDC's public health goals; (3) develops and implements organizational strategic planning goals and objectives; (4) provides budgetary, human resource management, and administrative support; leads the development of grants policy agendas with federal agencies and organizations; (5) provides cost advisory support to assistance activities with responsibility for initiating requests for audits and evaluations, and providing recommendations to grants management officer, as required; (6) conducts continuing studies and analysis of grants activities; (7) provides technical and managerial direction for the development, implementation, and maintenance of grants systems; (8) ensures adherence to laws, policies, procedures, regulations, and alignment with CDC's public health goals; (9) provides technical and managerial direction for functions related to objective review and grants close out; (10) serves as a central CDC receipt and referral point for all applications for assistance funds, including interfacing with the automated grants systems and relevant HHS line of business agencies; (11) distributes draft public health program announcements for review; (12) develops formal training in grants management for awardees and CDC staff; and (13) develops and implements organizational and CDC-wide policies and procedures for grants to support CDC's public health science and programs.

Infectious Disease Services Branch (CAJEYB). (1) Plans, directs, and conducts assistance management activities for CDC through the awards of grants and cooperative agreements (competitive and non-competitive) across public health systems; (2) plans, directs, coordinates, and conducts the grants management functions and processes in support of public health assistance awards; (3) provides leadership and guidance to CDC project officers and public health program officials related to grants activities; (4) maintains a close working relationship with CDC program offices; (5) reviews assistance applications for conformity to laws, regulations, policies, and alignment to CDC's public health goals; (6) issues grants and cooperative agreements; (7) provides continuing surveillance of financial and administrative aspects of assistance-supported activities to ensure compliance with HHS and CDC policies; (8) ensures that grantee performance is in accordance with assistance requirements; and (9) collects and reports business management and public health programmatic data, analyzes and monitor business management data on grants and cooperative agreements and maintains assistance files.

Chronic Disease and Birth Defects Services Branch (CAJEYC). (1) Plans, directs, and conducts assistance management activities for CDC through the awards of grants and cooperative agreements (competitive and non-competitive) across public health systems; (2) plans, directs, coordinates, and conducts the grants management functions and processes in support of public health assistance awards; (3) provides leadership and guidance to CDC project officers and public health program officials related to grants activities; (4) maintains a close working relationship with CDC program offices; (5) reviews assistance applications for conformity to laws, regulations, policies, and alignment to CDC's public health goals; (6) issues grants and cooperative agreements; (7) provides continuing surveillance of financial and administrative aspects of assistance-supported activities to ensure compliance with HHS and CDC policies; (8) ensures that grantee performance is in accordance with assistance requirements; and (9) collects and reports business management and public health programmatic data, analyzes and monitor business management data on grants and cooperative agreements and maintains assistance files.

OD, Environmental, Occupational Health and Injury Prevention Services Branch (CAJEYD). (1) Plans, directs, and conducts assistance management activities for CDC through the awards of grants and cooperative agreements (competitive and non-competitive) across public health systems; (2) plans, directs, coordinates, and conducts the grants management functions and processes in support of public health assistance awards; (3) provides leadership and guidance to CDC project officers and public health program officials related to grants activities; (4) maintains a close working relationship with CDC program offices; (5) reviews assistance applications for conformity to laws, regulations, policies, and alignment to CDC's public health goals; (6) issues grants and cooperative agreements; (7) provides continuing surveillance of financial and administrative aspects of assistance-supported activities to ensure compliance with HHS and CDC policies; (8) ensures that grantee performance is in accordance with assistance requirements; and (9) collects and reports business management and public health programmatic data, analyzes and monitor business management data on grants and cooperative agreements and maintains assistance files.

Global Health Services Branch (CAJEYE). (1) Plans, directs, and conducts assistance management activities for CDC through the awards of grants and cooperative agreements (competitive and non-competitive) across public health systems; (2) plans, directs, coordinates, and conducts the grants management functions and processes in support of public health assistance awards; (3) provides leadership and guidance to CDC project officers and public health program officials related to grants activities; (4) maintains a close working relationship with CDC program offices; (5) reviews assistance applications for conformity to laws, regulations, policies, and alignment to CDC's public health goals; (6) issues grants and cooperative agreements; (7) provides continuing surveillance of financial and administrative aspects of assistance-supported activities to ensure compliance with HHS and CDC policies; (8) ensures that grantee performance is in accordance with assistance requirements; (9) collects and reports business management and public health programmatic data, analyzes and monitor business management data on grants and cooperative agreements and maintains assistance files; and (10) provides innovative problem-solving methods in the coordination of international grants for a wide range of public health partners in virtually all major domestic and international health organizations including resolving issues with the Department of State.

Delete in its entirety the mission and function statements for the Procurement and Grants Office (CAJH).

James Seligman,
Acting Chief Operating Officer, Centers for Disease Control and Prevention.

[FR Doc. 2015-24601 Filed 9-28-15; 8:45 am]

BILLING CODE 4163-18-P